DEPARTMENT OF COMMERCE

National Oceanic and Atmospheric Administration

[RTID 0648-XB733]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Gulf of Mexico gag is now subject to overfishing and overfished; Bering Sea snow crab is now overfished; Atlantic mackerel is still subject to overfishing and overfished; and Georges Bank winter flounder, Southern New England/Mid-Atlantic winter flounder, and Atlantic Coast bluefish are still overfished. NMFS, on behalf of the Secretary, notifies the appropriate regional fishery management council (Council) whenever it determines that a stock or stock complex is subject to overfishing, overfished, or approaching an overfished condition.

FOR FURTHER INFORMATION CONTACT: Kathryn Frens, (301)-427-8523.

SUPPLEMENTARY INFORMATION: Pursuant to section 304(e)(2) of the Magnuson-Stevens Fishery Conservation and Management Act (Magnuson-Stevens Act), 16 U.S.C. 1854(e)(2), NMFS, on behalf of the Secretary, must notify Councils, and publish a notice in the Federal Register, whenever it determines that a stock or stock complex is subject to overfishing, overfished, or approaching an overfished condition.

NMFS has determined that Gulf of Mexico gag is now subject to overfishing and overfished. The Gulf of Mexico gag determination is based on the most recent assessment, completed in 2021 and using data through 2019, which indicates that this stock is subject to overfishing because the fishing mortality rate is above the threshold, and overfished because the stock biomass is below the threshold. NMFS has notified the Gulf of Mexico Fishery Management Council of the requirement to end overfishing on and to rebuild this stock.

NMFS has determined that Bering Sea snow crab is now overfished. This determination is based on the most recent assessment, completed in 2021and using data through 2021, which indicates that this stock is overfished because the mature male biomass is below the threshold. NMFS has notified the North Pacific Fishery Management Council of the requirement to rebuild this stock.

NMFS has determined that Atlantic mackerel is still subject to overfishing and overfished. This determination is based on the most recent assessment, completed in 2020 and using data through 2019, which indicates that this stock is subject to overfishing because the fishing mortality rate is above the threshold, and overfished because the stock biomass is below the threshold. NMFS continues to work with the New England Fishery Management Council to end overfishing and to rebuild this stock.

NMFS has determined that Georges Bank winter flounder, Southern New England/Mid-Atlantic winter flounder, and Atlantic Coast bluefish are still overfished. The two winter flounder determinations are based on the most recent assessments, completed in 2020 and using data through 2019, which indicate that these stocks are overfished because the biomasses are below their respective thresholds. NMFS continues to work with the New England Fishery Management Council to rebuild these stocks. The Atlantic Coast bluefish determination is based on the most recent assessment, completed in 2021 and using data through 2019, which indicates that this stock is overfished because the biomass is below the threshold. NMFS continues to work with the Mid-Atlantic Fishery Management Council to rebuild this stock.

Dated: February 7, 2022.
Ngagne Jafnar Gueye,
Acting Director, Office of Sustainable Fisheries, National Marine Fisheries Service.

[FR Doc. 2022-02857 Filed 2-9-22; 8:45 am]

BILLING CODE 3510-22-P